ENVIRONMENTAL PROTECTION AGENCY

[EPA-HQ-OEJECR-2023-0326; FRL-10605-02-OEJECR]

Release of Achieving Health and Environmental Protection Through EPA's Meaningful Engagement Policy

AGENCY: Environmental Protection Agency (EPA).

ACTION: Final policy; notice of availability.

SUMMARY: The Environmental Protection Agency (EPA) is issuing the final “Achieving Health and environmental Protection Through EPA's Meaningful Engagement Policy.” The final Policy supersedes the EPA's 2003 Public Involvement Policy and highlights three steps for planning and providing opportunities for meaningful engagement and public participation that will enhance decision-making, while recognizing that meaningful engagement processes will need to be tailored to meet different program or decision contexts. The accompanying “Resources and Best Practices” reflect experience gained since the 2003 Public Involvement Policy. The Policy will help EPA staff build and strengthen capabilities necessary to reach and hear from members of the public on actions they are interested in or affected by, while accounting for Agency time and resource constraints. This policy does not have the force and effect of law and it does not bind the agency or the public in any way. The EPA solicited public comments on the draft policy for sixty days beginning on November 16, 2023.

FOR FURTHER INFORMATION CONTACT: Stacey Lobatos, Office of Environmental Justice and External Civil Rights (Mail Code 2201A), Environmental Protection Agency, William Jefferson Clinton Building, 1200 Pennsylvania Avenue NW, Washington, DC 20460; phone number: 202-564-8579, email address: MeaningfulInvolvementPolicy@epa.gov.

SUPPLEMENTARY INFORMATION:

I. General Information

A. How can I access the Policy document and other related information?

1. Docket. The EPA has established a docket for this action under Docket ID No. EPA-HQ-OEJECR-2023-0326. Publicly available docket materials are available either electronically through www.regulations.gov or in hard copy at the EPA Docket Center, Office of Environmental Justice and External Civil Rights Docket, Mail Code 28221T, 1200 Pennsylvania Avenue NW, Washington, DC 20460. The Docket Center's hours of operations are 8:30 a.m. to 4:30 p.m., Monday through Friday (except Federal Holidays). For further information on the EPA Docket Center services and the current status, see: https://www.epa.gov/dockets. The public docket does not include CBI or other information whose disclosure is restricted by statute.

2. Electronic Access. You may also access this Federal Register document electronically from https://www.federalregister.gov/documents/current or on the EPA's website at https://www.epa.gov/environmentaljustice/epas-meaningful-engagement-policy.

Michael S. Regan,
Administrator.

[FR Doc. 2024-19906 Filed 9-4-24; 8:45 am]

BILLING CODE P